ENVIRONMENTAL PROTECTION AGENCY

[FRL-8026-5]

Position Statement on Environmental Management Systems (EMSs)

AGENCY: Environmental Protection Agency (EPA).

ACTION: Notice of availability.

SUMMARY: This notice is to inform the public that EPA has updated its Position Statement on Environmental Management Systems (EMSs). This updated statement replaces the 2002 Position Statement on EMS signed by Administrator Whitman and reflects EPA's experiences to date with the promotion of voluntary EMSs as well as our continued commitment to be a leader in this area. The Position Statement explains EPA's policy on EMSs and the Agency's intent to continue to promote the voluntary wide-spread use of EMSs across a range of organizations and settings. EPA encourages organizations to implement EMSs that result in improved environmental performance and compliance, cost-savings, pollution prevention through source reduction, and continual improvement.

FOR FURTHER INFORMATION CONTACT: Shana Harbour 202-566-2959.

SUPPLEMENTARY INFORMATION:

Background

During the past decade, public and private organizations have increasingly adopted formal Environmental Management Systems (EMSs) to address their environmental responsibilities. The most common framework an EMS uses is the plan-do-check-act process, with the goal of continual improvement. EMSs provide organizations of all types with a structured system and approach for managing environmental and regulatory responsibilities to improve overall environmental performance and stewardship, including areas not subject to regulation such as product design, resource conservation, energy efficiency, and other sustainable practices. EMSs can also facilitate the integration of the full scope of environmental considerations into the mission of the organization and improve environmental performance by establishing a continual process of checking to ensure environmental goals are set and met. A well-designed EMS includes procedures for taking corrective action if problems occur and encourages preventive action to avoid problems.

Over the last several years, EPA has been involved in a wide range of voluntary activities to facilitate EMS adoption (see http://www.epa.gov/ems). EPA has learned through our work with other organizations that EMSs can improve organizational efficiency and competitiveness, provide an infrastructure for public communication and engagement, and provide a platform to address other important issues such as security. EMSs do not replace the need for regulatory and enforcement programs, but they can complement them. Although EMSs cannot guarantee any specific level of environmental performance, EPA has learned that, when properly implemented, EMSs can help facilities achieve significantly improved environmental results and other benefits.

Using EMS as a Tool for Stewardship

EPA has developed EMSs at 34 of its own facilities in advance of the December 31, 2005 deadline set forth in Executive Order 13148—Greening the Government Through Leadership in Environmental Management. EPA will continue to utilize its EMSs to reduce its environmental footprint and to help lead the Agency's environmental stewardship efforts.

EPA will continue to encourage organizations to design and implement EMSs that improve compliance, prevent pollution, and integrate other means of improving environmental performance. EPA is also leading research designed to evaluate the effectiveness of EMSs in various settings and integrating EMSs into more of its own programs. We are evaluating which EMS elements and applications are most effective and how these management systems might be used to strengthen environmental programs and policies. This includes the ongoing efforts to assess the potential financial benefits of EMS adoption and to assess whether EMSs should play any role in the design of regulatory and permitting programs.

Statement of Principles

EPA's overall policy on EMSs, as with the EMS approach itself, will continue to be guided by the principles of continual improvement and learning, flexibility, and collaboration.

• EPA will encourage widespread use of EMSs across a range of organizations and settings, with particular emphasis on adoption of EMSs to achieve improved environmental performance and compliance, pollution prevention through source reduction, and continual improvement. The Agency will support EMSs that are appropriate to the needs and characteristics of specific sectors and facilities and encourage the use of EMSs as a means of integrating other facility management programs.

• EPA will promote the voluntary adoption of EMSs. To encourage voluntary adoption of EMSs, EPA will rely on public education and voluntary programs.

• EPA will encourage organizations that use EMSs to obtain stakeholder input on matters relevant to the development and implementation of an EMS and to demonstrate accountability for the performance outcomes of their EMSs through measurable objectives and targets. Additionally, the Agency will encourage organizations to share information on the performance of their EMSs with public and government agencies and facilitate this process where practicable.

• EPA will encourage the use of recognized environmental management frameworks, such as the ISO 14001 Standard, as a basis for designing and implementing EMSs that aim to achieve outcomes aligned with the nation's environmental policy goals and the principles of this Position Statement.

• EPA will collaborate with other key partners—including states, other Federal agencies, tribes, local governments, industry, and non-governmental organizations—as it implements this policy. EPA will support international EMS initiatives that facilitate the increased use of EMSs in the United States. The Agency will ensure that as it implements this policy, its decisions and work are transparent to all interested parties.

• EPA will lead by example, by developing, implementing, and maintaining EMSs at appropriate EPA facilities.

• EPA will foster continual learning by supporting research and public dialogue on EMSs that help improve the Agency's understanding of circumstances where EMSs can advance the nation's environmental policy goals. EPA will continue to collect improved data on the application of EMSs as it becomes available, including the efficacy of EMSs in improving environmental performance and the costs and benefits of an EMS to an organization and the environment.

Dated: December 13, 2005.
Stephen L. Johnson,
Administrator.

[FR Doc. E6-1423 Filed 2-1-06; 8:45 am]

BILLING CODE 6560-50-P